DEPARTMENT OF THE TREASURY

Office of Foreign Assets Control

Sanctions Action Pursuant to Executive Order 13224

AGENCY: Office of Foreign Assets Control, Treasury.

ACTION: Notice.

SUMMARY: The Treasury Department's Office of Foreign Assets Control (OFAC) is publishing the names of 2 individuals and 1 entity whose property and interests in property are blocked pursuant to Executive Order 13224 of September 23, 2001, “Blocking Property and Prohibiting Transactions With Persons Who Commit, Threaten To Commit, or Support Terrorism.”

DATES: OFAC's action described in this notice was effective on November 1, 2016.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic Availability

The SDN List and additional information concerning OFAC sanctions programs are available from OFAC's Web site (www.treas.gov/ofac).

Notice of OFAC Action

On November 1, 2016, OFAC blocked the property and interests in property of the following 2 individuals and 1 entity pursuant to E.O. 13224, “Blocking Property and Prohibiting Transactions With Persons Who Commit, Threaten To Commit, or Support Terrorism”:

Individuals

Entity

1. AL-OMGY AND BROTHERS MONEY EXCHANGE (a.k.a. AL OMGE AND BROS COMPANY MONEY EXCHANGE; a.k.a. AL OMGE AND BROS FOR EXCHANGE COMPANY; a.k.a. AL OMGI AND BROS COMPANY; a.k.a. AL-AMAQI LIL-SARAFAH COMPANY; a.k.a. AL-AMQI EXCHANGE; a.k.a. AL-AMQI MONEY EXCHANGE; a.k.a. AL-OMAG AND BROS EXCHANGE; a.k.a. AL-OMAGI & BRO. MONEY EXCHANGE COMPANY; a.k.a. AL-OMAKI EXCHANGE COMPANY; a.k.a. AL-OMAQY EXCHANGE CORPORATION; a.k.a. ALOMGE AND BROS FOR EXCHANGE COMPANY; a.k.a. AL-OMGI EXCHANGE COMPANY; a.k.a. AL-OMGY & BROS. MONEY EXCHANGE; a.k.a. ALOMGY AND BROS MONEY EXCHANGE; a.k.a. ALOMGY AND BROS. EXCHANGE; a.k.a. AL-OMGY COMPANY FOR MONEY EXCHANGE; a.k.a. AL-OMGY EXCHANGE COMPANY; a.k.a. AL-OMQI FOR EXCHANGE; a.k.a. ALOMQY & BROS. FOR MONEY EXCHANGE; a.k.a. AL-OMQY AND BROS COMPANY FOR MONEY EXCHANGE; a.k.a. AL-OMQY FOR EXCHANGING CO.; a.k.a. ALUMGY AND BROS MONEY EXCHANGE; a.k.a. AL-UMGY AND BROS MONEY EXCHANGE; a.k.a. AL-'UMQI BUREAUX DE CHANGE; a.k.a. AL-UMQI CURRENCY EXCHANGE COMPANY; a.k.a. AL-'UMQI GROUP FOR TRADE AND INVESTMENT; a.k.a. AL-UMQI HAWALA; a.k.a. AL-'UMQI MONEY EXCHANGE COMPANY; a.k.a. OMQI COMPANY; a.k.a. UMQI EXCHANGE), Al-Mukalla Branch, Al-Kabas, Near Al-Mukalla Post Office, Al-Mukalla, Hadhramout, Yemen; Galam Street, Taiz, Yemen; 6 Dr. Mostafa Abu Zahra Street, Naser, Cairo, Egypt; Ash Shihr, Hadramawt, Yemen; Qusayir, Hadramawt, Yemen; Hadhramout, Yemen; Aden, Yemen; Taix, Yemen; Abian, Yemen; Sanaa, Yemen; Hudidah, Yemen; Ibb, Yemen; Almhahra, Yemen; Albaidah, Yemen; Shabwah, Yemen; Lahej, Yemen; Suqatra, Yemen [SDGT] (Linked To: AL-QA'IDA IN THE ARABIAN PENINSULA; Linked To: AL-OMGY, Said Salih Abd-Rabbuh; Linked To: AL-OMGY, Muhammad Salih Abd-Rabbuh).

Dated: November 1, 2016.
John E. Smith,
Acting Director, Office of Foreign Assets Control.

[FR Doc. 2016-26688 Filed 11-3-16; 8:45 am]

BILLING CODE 4810-AL-P